DEPARTMENT OF COMMERCE

National Institute of Standards and Technology

Standards and Performance Metrics for On-Road Autonomous Vehicles: Workshop

AGENCY: National Institute of Standards and Technology (NIST), Commerce.

ACTION: Notice; Public Workshop.

SUMMARY: The National Institute of Standards and Technology (NIST) will be hosting a virtual workshop on the development of Standards and Performance Metrics for On-Road Autonomous Vehicles on March 8-9, 2022. During this two-day event, attendees will have an opportunity to actively provide feedback in facilitated discussions regarding technical focus areas for NIST to develop standards, measurement science, and performance metrics for on-road autonomous vehicle technology. NIST will release a discussion draft that addresses the following technology areas: Artificial Intelligence, Cybersecurity, Communication, Perception, Infrastructure, and Safety, prior to the workshop. NIST will use stakeholder feedback from the workshop to revise the discussion draft.

DATES: The workshop will begin on March 8, 2022, at 9:00 a.m. Eastern Time, and will adjourn on March 9, 2022, at 5:00 p.m. Eastern Time. Registration will be open until midnight on March 7, 2022, or until registration reaches capacity.

ADDRESSES: The workshop will be held virtually via webinar. For instructions on how to participate in the workshop, please see the SUPPLEMENTARY INFORMATION section of this notice.

FOR FURTHER INFORMATION CONTACT: For questions about this workshop contact: Vinh Nguyen, U.S. Department of Commerce, National Institute of Standards and Technology (NIST), 100 Bureau Drive, Gaithersburg, MD 20899, telephone (301) 975-2455, email autonomousvehicles@nist.gov. Please direct media inquiries to NIST's Office of Public Affairs at (301) 975-2762.

SUPPLEMENTARY INFORMATION:

Registration

The workshop schedule and registration information are posted online at: https://www.nist.gov/news-events/events/2022/03/standards-and-performance-metrics-road-autonomous-vehicles.

Engagement

Other opportunities to engage in the development of standards and performance metrics in autonomous vehicles will be posted on the NIST Autonomous Vehicles web page as they become available (https://www.nist.gov/programs-projects/nist-and-autonomous-vehicles), and will be announced through the NIST Autonomous Vehicles mailing list (https://groups.google.com/a/list.nist.gov/g/autonomousvehicles).

Objectives

On-road autonomous vehicles are projected to influence key aspects of everyday life including transportation, goods delivery, manufacturing, public safety, and security. However, autonomous vehicles can pose a risk in the event of unexpected system performance. Goals of this workshop include the following:

• Solicit stakeholder feedback to identify key areas where NIST can develop standards and performance metrics to help advance the autonomous vehicle field.

• Foster a multidisciplinary community consisting of stakeholders from a variety of disciplines and domains in autonomous vehicles.

During the workshop, attendees will have an opportunity to actively provide feedback in facilitated discussions regarding technical focus areas for NIST to develop standards, measurement science, and performance metrics for on-road autonomous vehicle technology. NIST will release a discussion draft that addresses the following technology areas: Artificial Intelligence, Cybersecurity, Communication, Perception, Infrastructure, and Safety, prior to the workshop. NIST will then use stakeholder feedback from the panel and breakout sessions at the workshop to revise the discussion draft.

Authority: 15 U.S.C. 272(b) & (c).

Alicia Chambers,
NIST Executive Secretariat.

[FR Doc. 2022-01628 Filed 1-26-22; 8:45 am]

BILLING CODE 3510-13-P